DEPARTMENT OF ENERGY

[Docket No. 15-96-LNG]

Port Arthur LNG, LLC; Request for Extension for Long-Term Authorization To Export Liquefied Natural Gas

AGENCY: Office of Fossil Energy and Carbon Management, Department of Energy.

ACTION: Notice of request.

SUMMARY: The Office of Fossil Energy and Carbon Management (FECM) (formerly the Office of Fossil Energy) of the Department of Energy (DOE) gives notice (Notice) of receipt of a request (Request), filed by Port Arthur LNG, LLC (PALNG) on November 18, 2022, and supplemented on November 22, 2022. PALNG requests an amendment to its existing authorization to export domestically produced liquefied natural gas (LNG) to non-free trade agreement countries set forth in DOE/FE Order No. 4372 (as amended)—specifically, an extension to commence its commercial export operations. PALNG filed its request under the Natural Gas Act (NGA). Protests, motions to intervene, notices of intervention, and written comments are invited.

DATES: Protests, motions to intervene, or notices of intervention, as applicable, and written comments are to be filed electronically as detailed in the Public Comment Procedures section no later than 4:30 p.m., Eastern time, January 3, 2023.

ADDRESSES:

Electronic Filing by email: fergas@hq.doe.gov.

Although DOE has routinely accepted public comment submissions through a variety of mechanisms, including postal mail and hand delivery/courier, DOE has found it necessary to make temporary modifications to the comment submission process in light of the ongoing Covid-19 pandemic. DOE is currently accepting only electronic submissions at this time. If a commenter finds that this change poses an undue hardship, please contact Office of Resource Sustainability staff at (202) 586-4749 or (202) 586-7893 to discuss the need for alternative arrangements. Once the Covid-19 pandemic health emergency is resolved, DOE anticipates resuming all of its regular options for public comment submission, including postal mail and hand delivery/courier.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov.

SUPPLEMENTARY INFORMATION: On May 2, 2019, in DOE/FE Order No. 4372 (as amended),¹ DOE authorized PALNG to export domestically produced LNG by vessel from the proposed Liquefaction Project to be located in Port Arthur, Texas, to any country with which the United States has not entered into a free trade agreement (FTA) requiring national treatment for trade in natural gas, and with which trade is not prohibited by U.S. law or policy (non-FTA countries).² PALNG is authorized to export LNG to non-FTA countries in a volume equivalent to 698 billion cubic feet per year (Bcf/yr) of natural gas for a term extending through December 31, 2050.³

¹ Port Arthur LNG, LLC, DOE/FE Order No. 4372, Docket No. 15-96-LNG, Opinion and Order Granting Long-Term Authorization to Export Liquefied Natural Gas to Non-Free Trade Agreement Nations (May 2, 2019), as amended Order No. 4372-A (Oct. 28, 2020) (extending export term).

² 15 U.S.C. 717b(a).

³ See Port Arthur LNG, LLC, DOE/FE Order No. 4372, as amended in Order No. 4372-A (Ordering Para. A).

As relevant here, Order No. 4372 requires PALNG to “commence export operations using the planned liquefaction facilities no later than seven years from the date of issuance of this Order”—i.e., by May 2, 2026.⁴ In the Request, PALNG asks DOE to extend this commencement deadline to June 18, 2028, “such that the term of [the non-FTA] authorization would begin on the earlier of the date of first commercial export or June 18, 2028.” ⁵

⁴ Port Arthur LNG, LLC, DOE/FE Order No. 4372, at 72 (Ordering Para. D).

⁵ Port Arthur LNG, LLC, Request for Extensions for Long-Term Authorizations to Export Liquefied Natural Gas, Docket Nos. 15-53-LNG, et al., at 4 (Nov. 18, 2022) [hereinafter Request]. The Request also applies to PALNG's existing FTA orders in Docket Nos. 15-53-LNG and 18-162-LNG, but DOE will address that portion of the Request separately pursuant to NGA section 3(c), 15 U.S.C. 717b(c).

In support of this Request, PALNG states that, on October 13, 2022, the Federal Energy Regulatory Commission (FERC) issued an order granting PALNG's request for an extension of time until June 18, 2028, to complete construction of the Liquefaction Project and to make it available for service (FERC Extension Order).⁶ PALNG states that its extension request would make its commencement deadline in Order No. 4372 (as amended) consistent with the June 18, 2028 deadline approved in the FERC Extension Order. PALNG also identifies the actions it has taken to date to develop the Liquefaction Project. According to PALNG, granting the requested extension of time will enable PALNG to complete the necessary arrangements to commence construction and place the Liquefaction Project into service.⁷ Additional details can be found in the Request, posted on the DOE website at: www.energy.gov/fecm/port-arthur-lng-llc-fe-dktno-15-96-lng.

⁶ Port Arthur LNG, LLC, 181 FERC ¶ 61,024 (2022).

⁷ Request at 6.

DOE Evaluation

In reviewing PALNG'S Request, DOE will consider any issues required by law or policy under NGA section 3(a). To the extent appropriate, DOE will consider the study entitled, Macroeconomic Outcomes of Market Determined Levels of U.S. LNG Exports (2018 LNG Export Study),⁸ DOE's response to public comments received on that Study,⁹ and the following environmental documents:

⁸ See NERA Economic Consulting, Macroeconomic Outcomes of Market Determined Levels of U.S. LNG Exports (June 7, 2018), https://www.energy.gov/sites/prod/files/2018/06/f52/Macroeconomic%20LNG%20Export%20Study%202018.pdf.

⁹ U.S. Dep't of Energy, Study on Macroeconomic Outcomes of LNG Exports: Response to Comments Received on Study; Notice of Response to Comments, 83 FR 67251 (Dec. 28, 2018), https://www.govinfo.gov/content/pkg/FR-2018-12-28/pdf/2018-28238.pdf.

• Addendum to Environmental Review Documents Concerning Exports of Natural Gas From the United States, 79 FR 48132 (Aug. 15, 2014); ¹⁰

¹⁰ The Addendum and related documents are available at https://www.energy.gov/fecm/addendum-environmental-review-documents-concerning-exports-natural-gas-united-states.

• Life Cycle Greenhouse Gas Perspective on Exporting Liquefied Natural Gas From the United States, 79 FR 32260 (June 4, 2014); ¹¹ and

¹¹ The 2014 Life Cycle Greenhouse Gas Report is available at https://www.energy.gov/fecm/life-cycle-greenhouse-gas-perspective-exporting-liquefied-natural-gas-united-states.

• Life Cycle Greenhouse Gas Perspective on Exporting Liquefied Natural Gas From the United States: 2019 Update, 84 FR 49278 (Sept. 19, 2019), and DOE's response to public comments received on that study.¹²

¹² U.S. Dep't of Energy, Life Cycle Greenhouse Gas Perspective on Exporting Liquefied Natural Gas from the United States: 2019 Update—Response to Comments, 85 FR 72 (Jan. 2, 2020). The 2019 Update and related documents are available at https://fossil.energy.gov/app/docketindex/docket/index/21.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Request. Interested parties will be provided 15 days from the date of publication of this Notice in which to submit comments, protests, motions to intervene, or notices of intervention. The public previously was given an opportunity to intervene in, protest, and comment on PALNG's prior non-FTA applications in Docket No. 15-96-LNG. Therefore, DOE will not consider comments or protests that do not bear directly on this Request.

Any person wishing to become a party to this portion of the proceeding evaluating PALNG's Request must file a motion to intervene or notice of intervention. The filing of comments or a protest with respect to the Request will not serve to make the commenter or protestant a party to the proceeding, although protests and comments received from persons who are not parties will be considered in determining the appropriate action to be taken on the Request. All protests, comments, motions to intervene, or notices of intervention must meet the requirements specified by the regulations in 10 CFR part 590, including the service requirements.

As noted, DOE is only accepting electronic submissions at this time. Please email the filing to fergas.hq.doe.gov. All filings must include a reference to “Docket No. 15-96-LNG” or “Port Arthur LNG, LLC Request for Extension” in the title line.

Please Note: Please include all related documents and attachments (e.g., exhibits) in the original email correspondence. Please do not include any active hyperlinks or password protection in any of the documents or attachments related to the filing. All electronic filings submitted to DOE must follow these guidelines to ensure that all documents are filed in a timely manner.

The Request and any filed protests, motions to intervene, notices of interventions, and comments will also be available electronically by going to the following DOE Web address: www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Opinion and Order may be issued based on the official record, including the Request and responses filed by parties pursuant to this Notice, in accordance with 10 CFR 590.316.

Signed in Washington, DC, on December 13, 2022.
Amy Sweeney,
Director, Office of Regulation, Analysis, and Engagement, Office of Resource Sustainability.

[FR Doc. 2022-27389 Filed 12-16-22; 8:45 am]

BILLING CODE 6450-01-P